DEPARTMENT OF LABOR

Office of the Secretary

Submission for OMB Review: Comment Request

February 24, 2004.

The Department of Labor (DOL) has submitted the following public information collection request (ICR) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Ira Mills on 202-693-4122 (this is not a toll-free number) or e-Mail: mills.ira@dol.gov.

Comments should be sent to Office of Information and Regulatory Affairs, Attn: OMB Desk Officer for DOL, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of a currently approved collection.

Title: Definition and Requirements for a Nationally Recognized Testing Laboratory; (29 CFR 1910.147).

OMB Number: 1218-0147.

Frequency: On occasion.

Affected Public: Business or other for-profit; not-for-profit institutions; and State, local or tribal government.

Number of Respondents: 62.

Number of Annual Responses: 62.

Estimated Time Per Response: Varies from 160 hours for an organization to prepare initial recognition applications to 10 hours if an organization applies to use voluntary programs.

Total Burden Hours: 1260 hours.

Total Annualized capital/startup costs: $0.

Total Annual Costs (operating/maintaining systems or purchasing services): $0.

Description: A number of standards issued by the Occupational Safety and Health Administration (OSHA) contain requirements for equipment, products, or materials. These standards often specify that employers use only equipment, products, or materials tested or approved by a nationally recognized testing laboratory (NRTL); this requirement ensures that employers use safe and efficacious equipment, products, or materials in complying with the standards. Accordingly, OSHA promulgated the regulation titled “Definition and Requirements for a Nationally Recognized Testing Laboratory.” The Regulation specifies procedures that organizations must follow to apply for, and to maintain, OSHA's recognition to test and certify equipment, products, or material for this purpose.

Ira L. Mills,
Departmental Clearance Officer.

[FR Doc. 04-4547 Filed 3-1-04; 8:45 am]

BILLING CODE 4510-23-M